DEPARTMENT OF ENERGY

Federal Energy Regulatory Commission

[Docket No. IC02-598-001, FERC-598]

Commission Information Collection Activities, Proposed Collection; Comment Request; Submitted for OMB Review

November 5, 2002.

AGENCY: Federal Energy Regulatory Commission.

ACTION: Notice.

SUMMARY: In compliance with the requirements of Section 3507 of the Paperwork Reduction Act of 1995, 44 U.S.C. 3507, the Federal Energy Regulatory Commission (Commission) has submitted the information collection described below to the Office of Management and Budget (OMB) for review and extension of the current expiration date. Any interested person may file comments directly with OMB and should address a copy of those comments to the Commission as explained below. The Commission received no comments in response to an earlier Federal Register notice of August 22, 2002 (67 FR 54412) and has noted this fact in its submission to OMB.

DATES: Comments on the collection of information are due by December 4, 2002.

ADDRESSES: Address comments on the collection of information to the Office of Management and Budget, Office of Information and Regulatory Affairs, Attention: Federal Energy Regulatory Commission Desk Officer, 725 17th Street, NW., Washington, DC 20503. The Desk Officer may be reached by telephone at 202-395-7856. A copy of the comments should also be sent to the Federal Energy Regulatory Commission, Office of the Chief Information Officer, CI-1, Attention: Michael Miller, 888 First Street NE., Washington, DC 20426. Comments may be filed either in paper format or electronically. Those persons filing electronically do not need to make a paper filing. For paper filings, such comments should be submitted to the Office of the Secretary, Federal Energy Regulatory Commission, 888 First Street, NE. Washington, DC 20426 and refer to Docket No. IC02-598-001.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgment to the sender's E-mail address upon receipt of comments. User assistance for electronic filings is available at 202-208-0258 or by e-mail to efiling@ferc.fed.us. Comments should not be submitted to the e-mail address.

All comments may be viewed, printed or downloaded remotely via the Internet through FERC's homepage using the FERRIS link. User assistance for FERRIS is available at 202-502-8222, or by e-mail to contentmaster@ferc.fed.us.

FOR FURTHER INFORMATION CONTACT: Michael Miller may be reached by telephone at (202)502-8415, by fax at (202)208-2425, and by e-mail at michael.miller@ferc.gov.

SUPPLEMENTARY INFORMATION:

Description

The information collected and submitted for OMB review contains:

1. Collection of Information: FERC-598 “Determination for Entities Seeking Exempt Wholesale Generator Status”.

2. Sponsor: Federal Energy Regulatory Commission.

3. Control No. 1902-0166.

The Commission is now requesting that OMB approve a three-year extension of the current expiration date, with no changes to the existing collection. This is a mandatory information collection requirement and the Commission does not consider the information to be confidential.

4. Necessity of the Collection of Information: Submission of the information is necessary to enable the Commission to carry out its responsibilities in implementing the statutory provisions of Section 32 of the Public Utility Holding Company Act of 1935 (PUHCA), as amended by Section 711 of the Energy Policy Act of 1992, Pub.L. 102-486. Section 32(a) of PUHCA defines an Exempt Wholesale Generator (EWG) as an individual determined by the Commission to be engaged directly or indirectly through one or more affiliates, and exclusively in the business of owning and/or operating all or part of eligible facilities and selling electric energy at wholesale. An eligible facility may include interconnecting transmission facilities necessary to effect wholesale power sales.

Persons granted EWG status will be exempt from regulation under PUHCA. The Commission implements these filing requirements in the Code of Federal Regulations (CFR) under 18 CFR part 365.

The information is collected by the Commission in the form of a written application for determination of status as an EWG. These applications are reviewed by the Commission in order to assess as to whether the applicant meets the statutory requirements for EWG status. Without this information, the FERC would be unable to meet it statutory obligations and make the appropriate determinations.

5. Respondent Description: The respondent universe currently comprises (on average) 112 entities subject to the Commission's jurisdiction

6. Estimated Burden: 672 total hours, 112 respondents(average), 1 response per respondent annually, 6 hours per response (average).

7. Estimated Cost Burden to respondents: $37,813 (112 respondents × $117,041 2080). The cost per respondent = $338 (rounded off).

Statutory Authority: Section 32 of the Public Utility Holding Company Act, 15 U.S.C. 79 et seq.

Magalie R. Salas,
Secretary.

[FR Doc. 02-28731 Filed 11-8-02; 8:45 am]

BILLING CODE 6717-01-P